FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201382.

Agreement Name: Volkswagen Konzernlogistik GmbH & Co. OHG/EPS Chartering (UK) Limited Space Charter Agreement.

Parties: Volkswagen Konzernlogistik GmbH & Co. OHG and EPS Chartering (UK) Limited.

Filing Party: Ashley Craig; Venable LLP.

Synopsis: The Agreement authorizes the parties to charter space to each other in the trades between the U.S. East and Gulf Coasts, on one hand, and ports in Mexico, Canada, and Germany, on the other hand.

Proposed Effective Date: 4/14/2022.

Location: https://www2.fmc.gov/FMC.Agreements.Web/Public/AgreementHistory/61515.

Agreement No.: 201383.

Agreement Name: Hyundai Glovis/Liberty Space Charter Agreement.

Parties: Hyundai Glovis Co., Ltd. and Liberty Global Logistics LLC.

Filing Party: Wayne Rohde; Cozen O'Connor.

Synopsis: The Agreement authorizes the parties to charter space to each other in all U.S. trades.

Proposed Effective Date: 6/2/2022.

Location: https://www2.fmc.gov/FMC.Agreements.Web/Public/AgreementHistory/61518.

Agreement No.: 201384.

Agreement Name: Hyundai Glovis/Liberty Korea Space Charter Agreement.

Parties: Hyundai Glovis Co., Ltd. and Liberty Global Logistics LLC.

Filing Party: Wayne Rohde; Cozen O'Connor.

Synopsis: The Agreement authorizes the parties to charter space to/from one another in the trade between Korea and the Pacific Coast of the United States.

Proposed Effective Date: 4/19/2022.

Location: https://www2.fmc.gov/FMC.Agreements.Web/Public/AgreementHistory/61516.

Dated: April 21, 2022.
William Cody,
Secretary.

[FR Doc. 2022-08917 Filed 4-26-22; 8:45 am]

BILLING CODE 6730-02-P